DEPARTMENT OF HOMELAND SECURITY

Federal Emergency Management Agency

Agency Information Collection Activities: Submission for OMB Review; Comment Request

AGENCY: Federal Emergency Management Agency, Department of Homeland Security.

ACTION: Notice and request for comments.

SUMMARY: The Federal Emergency Management Agency (FEMA) has submitted the following information collection to the Office of Management and Budget (OMB) for review and clearance in accordance with the requirements of the Paperwork Reduction Act of 1995. The submission describes the nature of the information collection, the categories of respondents, the estimated burden (i.e., the time, effort and resources used by respondents to respond) and cost, and includes the actual data collection instruments FEMA will use.

Title: National Fire Academy Long Term Course Evaluation Forms (FF 90-58 Trainees; FF 90-59 Supervisors).

OMB Number: 1660-0039.

Abstract: The National Fire Academy's long-term evaluation forms—one for students (trainees) and one for the student's supervisor—will obtain course specific feedback regarding impact of course content on job performance. The information is needed to improve instruction and content. Demographic data are needed to identify differentials in course impact.

Affected Public: Individuals or Households; State, local or Tribal Governments.

Number of Respondents: 1,500 (750 Trainees and 750 Supervisors).

Estimated Time per Respondent: 20 minutes for the Student Questionnaire; 10 minutes for the Supervisor Questionnaire.

Estimated Total Annual Burden Hours: 375 hours.

Frequency of Response: Once.

Comments: Interested persons are invited to submit written comments on the proposed information collection to the Office of Information and Regulatory Affairs at OMB, Attention: Desk Officer for the Department of Homeland Security/FEMA, Docket Library, Room 10102, 725 17th Street, NW., Washington, DC 20503, or facsimile number (202) 395-7285. Comments must be submitted on or before January 9, 2006.

FOR FURTHER INFORMATION CONTACT: Requests for additional information or copies of the information collection should be made to Chief, Records Management, FEMA, 500 C Street, SW., Room 316, Washington, DC 20472, facsimile number (202) 646-3347, or e-mail address FEMA-Information-Collections@dhs.gov.

Deborah Moradi,
Acting Branch Chief, Information Resources Management Branch, Information Technology Services Division.

[FR Doc. E5-7159 Filed 12-8-05; 8:45 am]

BILLING CODE 9110-17-P